NUCLEAR REGULATORY COMMISSION

[Docket No. 50-247, License No. DPR-26]

Entergy Nuclear Operations, Inc.; Notice of Issuance of Director's Decision Under 10 CFR 2.206

Notice is hereby given that the Director, Office of Nuclear Reactor Regulation, has issued a Director's Decision with regard to a Petition dated December 4, 2000, filed by Deborah Katz, Marilyn Elie, Tim Judson, Kyle Rabin, Mark Jacobs, Paul Gunter, and Jim Riccio, hereinafter referred to as the “Petitioners.” The Petition was supplemented on January 24, 2001. The Petition concerns the operation of the Indian Point Nuclear Generating Unit No. 2 (IP2).

The Petitioners requested that the Nuclear Regulatory Commission (NRC) take the following enforcement-related actions against Consolidated Edison of New York (ConEd, or the licensee) for IP2: (1) Suspend the license for the IP2 reactor because of the licensee's “persistent and pervasive, negligent management of the reactor,” (2) investigate whether the potential misrepresentation of material fact by the utility regarding “significantly insufficient” engineering calculations was due to a lack of rigor and thoroughness or was deliberate, (3) revoke the IP2 operating license if it is found that the licensee deliberately provided insufficient and false information, (4) if the license is not revoked, maintain IP2 on the list of “agency focus” plants until management demonstrates it can fulfill its regulatory requirements and commitments, (5) not approve the transfer of the IP2 license until management can demonstrate that the Updated Final Safety Analysis Report (UFSAR), the condition report backlog, and the maintenance requirements are up to date and workers have been retrained, and (6) not allow the IP2 reactor to restart until the fundamental breakdown in management is analyzed and corrected. The Petitioner also requested that a public meeting be held to discuss this matter.

As the basis for the December 4, 2000, request, the Petitioners stated that the licensee's systemic mismanagement of the plant resulted in, among other things, inconsistencies and inaccuracies in the UFSAR, safety systems whose compliance with the regulations could not be verified, design basis analyses that might not be accurate, and a UFSAR that may not be up to date. The Petitioners considers the systemic mismanagement to be potentially unsafe and to be in violation of Federal regulations. In the Petition, a number of NRC inspection reports, licensee event reports, letters between the NRC staff and the licensee, plant performance review summaries, and other documents were cited that the Petitioners believe document their contentions.

On January 24, 2001, the Petitioners and the licensee met with the staff's Petition Review Board. The meeting gave the Petitioners and the licensee an opportunity to provide additional information and to clarify issues raised in the Petition. During the public meeting, the Petitioners gave the staff supplemental information which the staff considered in making its decision. The Petitioners contended that the supplemental information provided further evidence of the licensee's mismanagement of the IP2 facility.

The NRC sent a copy of the proposed Director's Decision to the Petitioners and to the licensee for comment on July 25, 2001. The Petitioners responded with comments on September 14, 2001. The licensee did not respond. The Petitioners' comments and the NRC staff responses to the comments can be found in the cover letter transmitting the Director's Decision and Attachment 1 to the Director's Decision.

The Director of the Office of Nuclear Reactor Regulation concluded that the information contained in the Petition and the supplement does not warrant NRC staff action to suspend or revoke the operating license for IP2. Likewise, the staff finds no basis for initiating an investigation into wrongdoing on the part of ConEd. These requested actions are not granted. The NRC grants the Petitioners' request that IP2 remain on the list of agency focus plants (i.e., plants with multiple/repetitive degraded cornerstones). However, the NRC staff did not grant the Petitioners' request to define under what conditions IP2 will be removed from the list of plants with multiple/repetitive degraded cornerstones.

In addition, the staff found that the Petitioners' request to delay or deny a request to transfer the operating license for IP2 until the licensee's management can demonstrate that the UFSAR, condition report backlog, and maintenance requirements are up to date, and that plant workers have been retrained to the modified UFSAR does not meet the requirements for review under 10 CFR 2.206. The reasons for these decisions are explained in the Director's Decision pursuant to 10 CFR 2.206 (DD-01-04), the complete text of which is available in ADAMS for inspection in the Commission's Public Document Room at One White Flint North, 11555 Rockville Pike (first floor), Rockville, Maryland, and electronically accessible in ADAMS through the NRC Public Electronic Reading Room at http://www.nrc.gov/reading-rm.html (ADAMS Accession No. ML 0103030073). Persons who do not have access to ADAMS or who encounter problems in accessing documents located in ADAMS should contact the NRC PDR reference staff by telephone at 1-800-397-4209, or locally at 301-415-4737, or by email at pdr@nrc.gov.

A copy of the Director's Decision will be filed with the Secretary of the Commission for the Commission's review in accordance with 10 CFR 2.206 of the Commission's regulations. As provided for by this regulation, the Director's Decision will constitute the final action of the Commission 25 days after the date of the decision, unless the Commission, on its own motion, institutes a review of the Director's Decision in that time.

For the Nuclear Regulatory Commission.
Dated at Rockville, Maryland, this 21st day of November 2001.
Samuel J. Collins,
Director, Office of Nuclear Reactor Regulations.

[FR Doc. 01-29622 Filed 11-28-01; 8:45 am]

BILLING CODE 7590-01-P